DEPARTMENT OF COMMERCE

National Oceanic and Atmospheric Administration

50 CFR Part 665

[Docket No. 0808051054-91123-01]

RIN 0648-AW67

Western Pacific Pelagic Fisheries; Prohibiting Purse Seine Fishing in the U.S. EEZ Around Guam and the Northern Mariana Islands, and Prohibiting Longline Fishing Within 30 nm of the Northern Mariana Islands

AGENCY: National Marine Fisheries Service (NMFS), National Oceanic and Atmospheric Administration (NOAA), Commerce.

ACTION: Proposed rule; request for comments.

SUMMARY: Through this action, NMFS proposes to prohibit purse seine fishing in the U.S. Exclusive Economic Zone (EEZ) around Guam and the Commonwealth of the Northern Mariana Islands (CNMI), and to prohibit pelagic longline fishing within 30 nautical miles (nm) of the CNMI. The purse seine prohibition is intended to reduce the potential for localized fish depletion by purse seine fishing, limit catch competition and gear conflicts between the purse seine fishery and the Guam and CNMI pelagic longline and trolling fleets, and reduce the potential impacts of purse seine fishing on the recruitment of juvenile bigeye tuna. By establishing a longline fishing prohibited area around the CNMI, NMFS intends to reduce the potential for localized fish depletion by longline fishing, and to limit catch competition and gear conflicts between the developing CNMI longline fishery and the CNMI pelagic trolling fleet. This rule also would make several administrative clarifications to the pelagic fishing regulations.

DATES: NMFS must receive comments on the proposed rule by May 16, 2011.

ADDRESSES: The Western Pacific Fishery Management Council (Council) prepared Amendment 2 to the Fishery Ecosystem Plan for Pelagic Fisheries of the Western Pacific Region (FEP), which describes the issues, and includes an environmental assessment (EA). Copies of Amendment 2 and EA are available from http://www.regulations.gov or the Council, 1164 Bishop St., Suite 1400, Honolulu, HI 96813, tel 808-522-8220, fax 808-522-8226, http://www.wpcouncil.org.

You may send a comment on this proposed rule, identified by 0648-AW67, to either of the following addresses:

• Electronic Submission: Send electronic public comments via the Federal e-Rulemaking Portal http://www.regulations.gov; or

• Mail: Mail written comments to Michael D. Tosatto, Regional Administrator, NMFS, Pacific Islands Region (PIR), 1601 Kapiolani Blvd., Suite 1110, Honolulu, HI 96814-4700.

Instructions: You must send comments to one of the above two addresses to ensure that NMFS receives, documents, and considers all comments. Comments sent to any other address or individual, or received after the end of the comment period, may not be considered. All comments received are a part of the public record and will generally be posted to http://www.regulations.gov without change. All personal identifying information (e.g., name, address, etc.) submitted voluntarily by the sender may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Toby Wood, NMFS PIR Sustainable Fisheries, 808-944-2234.

SUPPLEMENTARY INFORMATION: Pelagic fisheries in the U.S. western Pacific are managed under the Pelagics FEP. The Council is concerned that any influx of purse seine fishing near the islands of Guam and the CNMI might affect the sustained participation by local fishing communities in those areas, which are made up almost exclusively of small vessel trollers that have a strong cultural and economic dependence on inshore pelagic catches. Similarly, the Council is also concerned that the CNMI troll fishery is vulnerable to potential catch competition and gear conflicts with the growing CNMI longline fleet in areas where both fleets fish.

In response to these concerns, and pursuant to the Magnuson-Stevens Fishery Conservation and Management Act (Magnuson-Stevens Act), the Council prepared Amendment 2 to the Pelagic FEP in the Mariana Archipelago. In Amendment 2, the Council proposes to prohibit purse seine fishing in the EEZ around Guam and the CNMI, and to prohibit pelagic longline fishing within 30 nm (55.6 km) of the CNMI. If Amendment 2 is adopted, this rule would implement the Council's recommendations.

Fisheries

The following section describes the fisheries that would be affected by this rule, if it is promulgated. Because 2008 is the most recent year for which we have comprehensive information about all fisheries considered, we use 2008 as the baseline year for analyzing the potential effects of this proposed rule. Although more recent troll, longline, and purse seine fishery information has become available, including this information would not change the analysis, management objectives, or measures of the Council's proposed action.

Pelagic fisheries in the Mariana Islands (Guam and the CNMI) consist of small trolling fleets and several pelagic longline vessels. Purse seine vessels have been based in Guam, but have not historically reported fishing within the U.S. EEZ around the Mariana Islands.

Guam's pelagic fishery consists mostly of small trolling boats that are either towed to launching sites or berthed in marinas that fish in local waters. Most of these boats are shorter than 33 ft (10 m) in length overall (LOA), and are usually owned and operated by fishermen who earn a living outside of fishing, even though most fishermen sell a portion of their catch. Estimated annual landings of pelagic fish in Guam have ranged between 301,504 to 935,809 lb (136 to 424 mt) over the past 20 years. In 2008, landings of pelagic fish—primarily of skipjack tuna, yellowfin tuna, mahimahi (dorado), wahoo, and blue marlin—totaled 551,504 lb (250 mt), with an estimated total ex-vessel value of $247,188. Additionally, the pelagic fishing fleet landed an estimated 296,121 lb (134 mt) of skipjack tuna and 19,899 (9 mt) of yellowfin tuna. For 2008, Guam's pelagic fishery consisted of 385 boats: Non-charter boats made 5,057 fishing trips, and charter boats made 1,891 trips.

Trolling is also the primary fishing method in the CNMI pelagic fishery. CNMI's troll fleet consists primarily of vessels shorter than 24 ft (7.3 m) in LOA, with a travel radius from Saipan of about 20 miles (32 km). The number of fishermen landing pelagic fish in the CNMI in the past 20 years has ranged from 114 in 1996 to 47, as of 2008. The primary target for the CNMI troll fleet is skipjack tuna. In 2008, skipjack tuna landings comprised over 157,708 lb (71 mt), or three-quarters of total pelagic landings, and was valued at nearly $280,000 ex-vessel. The CNMI troll fleet also catches yellowfin tuna and mahimahi on a seasonal basis. In 2008, this fleet landed 16,344 lb (7.4 mt) of yellowfin tuna, and 11,169 lb (5 mt) of mahimahi.

Pelagic longline fishing in the Mariana Archipelago targets bigeye and yellowfin tuna. U.S. longline vessels range in length from 40 to 100 ft (12 to 30 m) in LOA, and a single fishing trip can last for more than 30 days. Longline gear can range in length from one to 60 miles (1.6 to 96.6 km). Interest in this fishery has been variable in recent years. Four permitted longline vessels are based in the CNMI and one is based in Guam. As recently as 2010, three longline vessels have been actively fishing in the EEZ around the CNMI, but no longline vessels have reported landings from the EEZ around Guam since 2000. In 1992, the Council proposed and NMFS implemented a 50 nm (92.6 km) longline prohibited area around Guam to prevent gear conflicts between the developing longline fishery and the troll fishery, and to assist in preserving the local availability of important pelagic troll caught species (57 FR 45989, October 6, 1992).

CNMI longline vessels target yellowfin and bigeye tunas and retain incidental catches of albacore, blue marlin, mahimahi, skipjack tuna, and spearfish. From 2007 through 2010, these vessels made approximately 30 trips in the EEZ around the CNMI. Section 402 of the Magnuson-Stevens Act generally prohibits the release of confidential fishery information that is submitted to the Secretary of Commerce in accordance with the Magnuson-Stevens Act and is identifiable to an individual submitter. Because of the limited size of the longline fleet in the Marianas, NMFS is prohibited from releasing fishery information, as such a release could be used to identify the activities of specific vessels. Accordingly, proxy information about catch from the nearby Federated States of Micronesia (FSM) fishery, and the operating characteristic of longliners in American Samoa are used to analyze fishing impacts.

Between 2007 and 2008, activity by the U.S. purse seine fleet in the western and central Pacific Ocean (WCPO) increased from 21 U.S. vessels to 38, respectively. The current U.S. purse seine fleet in the WCPO stands at 36 vessels. These vessels range in length from 191 to 293 ft (58 to 89 m). Fish-carrying capacities range from approximately 800 to 1,500 mt (1.8 to 3.3 million lb). The U.S. purse seine catch in the western Pacific is made on the high seas, in foreign EEZs under licenses issued in accordance with the South Pacific Tuna Treaty (SPTA), and in the U.S. EEZ around American Samoa and the U.S. Pacific Remote Island Areas (i.e., Wake, Baker, Howland, and Jarvis Islands, Johnston Atoll, Kingman Reef, and Palmyra Atoll). According to the most recent information available, U.S. purse seine catches of skipjack in the WCPO increased from 75,210 mt (165 million lb) in 2007 to 127,307 mt (280 million lb) in 2008.

No U.S. purse seine catches have been recorded from the EEZ around the CNMI, and no U.S. purse seine catches have been recorded from the EEZ around Guam since 1980. To estimate the potential impact of U.S. purse seine fishing in the Marianas, Japan's purse seine statistics (as the purse seine fishery operating closest to the Mariana Archipelago) were used as a proxy for potential U.S. purse seine catches from the EEZ around the Marianas. The average daily skipjack and yellowfin tuna catches by Japan purse seine fishery from 2004 to 2006 were 57,320 lb (26 mt) and 6,613 lb (3 mt), respectively. This daily amount is approximately 13 and 18 percent of the total annual catches of skipjack and yellowfin tuna, respectively, landed in 2008 by the longline and troll fleets of Guam and the CNMI.

Council Concerns

The Council is concerned about the potential impacts, such as localized stock depletion, on other pelagic fisheries if U.S. purse seine vessels begin fishing in the EEZ around Guam and the CNMI. Localized fish depletion occurs when a stock in a small area is reduced by the removal of large amounts of fish, thereby temporarily depleting the availability of the stock to fishing activity or other predators in that area. Some studies suggest that temporary, localized depletion could occur when purse seines take large quantities of fish.

In recent years the competition for skipjack tuna among multi-national purse seine fleets in the WCPO has increased, and as a result U.S. purse seiners could turn to fishing grounds such as the EEZ around the Mariana Archipelago, where foreign fishing is prohibited, to increase their catch. The recent closures of two high seas fishing areas and restrictions placed on the use of fish aggregating devices by the Western and Central Pacific Fishery Commission could also encourage U.S. purse seiners to fish around the Marianas. Additionally, the Council is concerned that the President's establishment in 2009 of three new Marine National Monuments in the Marianas, Rose Atoll, and the Pacific Remote Islands Areas, which include large areas now closed to commercial fishing, could displace purse seine fishing into the EEZ around Guam and the CNMI.

If purse seine effort shifts to areas fished by the troll and longline fisheries of Guam and the CNMI, those smaller vessels could experience reduced catch rates, or have to travel further to maintain catch rates, resulting in lost revenue and possible safety-at-sea issues. Reduced catch rates could negatively impact ex-vessel revenue of the troll and longline fleets. To maintain catches or catch rates, vessels may need to fish longer or travel farther to find more abundant fish populations. These factors could increase costs associated with fishing, such as fuel, food, crew time, and ice, while also increasing safety risks for small vessels that would have to fish farther from shore and for longer intervals.

Although the purse seine fleet is highly mobile and can harvest large quantities of fish, it does not (with the current fishing technologies) target mature fish. While targeting skipjack tuna, particularly through the use of fish aggregating devices, purse seines also catch juvenile yellowfin and bigeye tuna. Bigeye tuna is currently subject to overfishing, and the harvest of juvenile bigeye by purse seines contributes to recruitment overfishing. The impacts from an increase in juvenile catch of bigeye tuna could reduce the number of mature fish in the population, thereby decreasing the number of fish reproduced. This reduction could also decrease the future availability of adult fish for fisheries that target adult bigeye tuna.

The Council is also concered that any future expansion of longline fishing around the Mariana Archipelago could result in adverse impacts to the CNMI troll fleet. If the number of CNMI-based longline vessels increases and they move into areas traditionally utilized by the local troll fleet (typically within 30 nm (55.6 km) of shore), there is potential for gear conflict and catch competition between the two fleets. Longline gear can be up to 60 nm (111 km) long, deployed horizontally at depth of 25 to 100 meters with floats at the surface, and drifting with the current. Troll vessels drag gear through the water column, and could snag or cut shallow longline gear or lines attached to floats. Consequently, troll vessels may need to move to other areas that do not have longline gear in the area to avoid these interactions.

Since tunas tend to aggregate around objects in the water, offshore banks and reefs are a popular place for fishing activity by the troll fleet. Accordingly, competition for fish can be concentrated in these areas when fish are available. By including those banks and reefs within the proposed prohibited area, the Council plans to reduce the potential for catch competition, and the related stock losses. at these locations.

The Council is also concerned that increased longline fishing could take yellowfin tuna and other species on which the troll fishery depends, causing enough localized depletion to impact trolling catch rates. In addition, any growth of the longline fishery could result in increased costs (i.e., more fuel, time at sea, and ice) for the troll fleet trolling costs, along with decreased revenues due to an increase of market supply of fish like yellowfin tuna.

Proposed Actions

Due to these concerns, the Council has recommended, pursuant to the Magnuson-Stevens Act, the following measures. These recommendations are precautionary approaches intended to reduce temporary localized depletion, catch competition, and gear conflicts to sustain local troll and longline fisheries, and to limit the potential impacts of purse seine fishing on recruitment of juvenile bigeye tuna. To address their concerns about the potential impact of purse seine fishing on the troll and longline fisheries in the Marianas, the Council recommended prohibiting U.S. purse seine vessels from fishing within the EEZ around Guam and the CNMI. To address the Council's concerns about the potential impact of uncontrolled expansion in the CNMI longline fishery, the Council recommended a prohibition on longline fishing within 30 nm (55.6 km) of the islands (see Fig. 1).

Additionally, if implemented, this rule would make administrative housekeeping changes to the pelagic fishing regulations, unrelated to Amendment 2. All prohibited areas would be grouped into one section, making the area requirements easier for fishermen and the general public to find. Existing longline prohibited areas (in Hawaii and Guam) and the American Samoa large vessel prohibited areas for pelagic fishing would be combined into 50 CFR 665.806. The proposed purse seine and CNMI longline prohibited areas would also be added to that section.

As described above, the Council's approach under Amendment 2 is precautionary. NMFS notes that no U.S. purse seine catches have been recorded from the EEZ surrounding the CNMI, and no U.S. purse seine catches have been recorded from the EEZ surrounding Guam since 1980. NMFS also notes that there is only limited longline activity currently being conducted out of the Mariana Archipelago. Accordingly, NMFS specifically invites public comments addressing whether the action is “necessary and appropriate” according to MSA 303(a)(1) to accomplish its identified conservation and management objectives, and the state of the science supporting the action.

BILLING CODE 3510-22-P

BILLING CODE 3510-22-C

Classification

Pursuant to section 304(b)(1)(A) of the Magnuson-Stevens Act, the NMFS Assistant Administrator has determined that this proposed rule is consistent with the FEP, other provisions of the Magnuson-Stevens Act, and other applicable laws, subject to further consideration after public comment.

The Chief Counsel for Regulation of the Department of Commerce certified to the Chief Counsel for Advocacy of the Small Business Administration that this proposed rule, if adopted, would not have a significant economic impact on a substantial number of small entities. The analysis follows:

“This rule would prohibit purse seine fishing in the U.S. Exclusive Economic Zone (EEZ) around Guam and the Commonwealth of the Northern Mariana Islands (CNMI), and would prohibit longline fishing within 30 nm (55.6 km) of the CNMI. A description of the action, why it is being considered, and the legal basis are contained in the preamble to this proposed rule. Briefly, the purse seine prohibition is intended to reduce the potential for localized fish depletion by purse seine fishing, limit catch competition and gear conflicts between the purse seine fishery and the Guam and CNMI pelagic longline and trolling fleets, and reduce the potential impacts of purse seine fishing on the recruitment of juvenile bigeye tuna. The longline fishing prohibited area around the CNMI, is intended to reduce the potential for localized fish depletion by longline fishing, and to limit catch competition and gear conflicts between the developing CNMI longline fishery and the CNMI pelagic trolling fleet.

This proposed rule consists of three actions:

1. Prohibit pelagic longline fishing within 30 nm (55.6 km) of the CNMI;

2. Prohibit pelagic purse seine fishing within the EEZ around the CNMI; and

3. Prohibit pelagic purse seine fishing within the EEZ around Guam.

Action 1 would impact the longline vessels in and operating from the CNMI. This is a relatively small fishery; the number of permits issued to vessel owners in this fishery in recent years has ranged from four to eight. Fishing vessels are considered to be small entities by the SBA if they are independently-owned or operated, are not dominant in their field of operation, and have annual gross receipts not in excess of $4 million. Although exact revenue data for the CNMI longline vessel group are not available, similarly-situated vessels operating in Hawaii earn an average of less than $4 million per year. Using this figure as a proxy for annual revenue, this analysis assumes the affected vessels are small entities.

Prohibiting fishing within 30 nm (55.6 km) of shore could require vessels to spend more time and fuel traveling offshore before fishing, and could prevent catching any target fish stocks that might occur within the prohibited area. However, logbook information suggests that the affected longline vessels currently fish farther than 30 nm (55.6 km) from shore. Action 1 would not modify their current fishing practices and, therefore, is not expected to impact the affected vessels' revenue.

Additionally, Action 1 could benefit the local CNMI troll fleet, which fishes closer to shore than longliners, by reducing the likelihood of catch competition and gear conflict between trolling and longlining. In 2008, the CNMI troll fleet consisted of 47 boats, most of which were less than 24 ft (7 m) long. That year, these boats made 989 trips, landing 197,013 lb (89.4 mt) of fish, and earned total ex-vessel revenue of $317,330, or $6,752 per vessel. Accordingly, these vessels are all considered small entities under the RFA. This rule, however, would not modify these vessels' activities. The rule is intended as a precautionary measure to protect and conserve the fish stocks and fishing resources around Guam and the CNMI, and if implemented would reduce the risk that local stocks would decline due to longline fishing. Additionally, Action 1 would reduce the potential for gear conflicts between CNMI trollers and the longline fleet.

Because Action 1 of this rule is not expected to alter the current fishing practices of the longline fleet, and because it is expected to benefit the CNMI troll fleet as well as the local fishery resources, Action 1, if implemented, will not have a significant economic impact on a substantial number of small entities.

If implemented, Actions 2 and 3 could potentially affect purse seine fishing vessels. The average 1998 gross revenue per purse seine vessel was $4.7 million, equivalent to $6.1 million in 2009 dollars. Therefore, most or all of the 38 purse seine licenses in 2009-10 were held by large entities. NMFS recognizes that newly-permitted vessels may experience lower revenues during the start-up period, and may constitute small entities under the RFA, but it is expected that the purse seine provisions of the rule will only affect large entities.

Similar to the effects of Action 1, prohibiting fishing within the EEZ could force any Guam- or CNMI-based purse seine vessels to spend more time and fuel traveling beyond the EEZ before fishing, and could prevent catching any target fish stocks that occur within the EEZ. However, the U.S. purse seine fishery has never operated in the EEZ around Guam and the CNMI, nor it is expected to in the near future. Accordingly, these small entities will likely not be affected by these actions.

Based on the above analysis indicating that few or no potentially affected vessels currently fish in the areas closed by this proposed rule because this rule is a precautionary measure meant to conserve local fisheries and fish stocks, NMFS has determined that the proposed rule would not result in “a substantial economic impact to a significant number of small entities.”

Accordingly, an initial regulatory flexibility analysis is not required and none has been prepared.

This proposed rule has been determined to be not significant for purposes of Executive Order 12866.

List of Subjects in 50 CFR Part 665

Administrative practice and procedure, Fisheries, Fishing, Guam, Longline, Northern Mariana Islands, Prohibited areas, Purse seine.

Dated: March 28, 2011.
John Oliver,
Deputy Assistant Administrator for Operations, National Marine Fisheries Service.

For the reasons set out in the preamble, 50 CFR chapter VI is proposed to be amended as follows:

PART 665—FISHERIES IN THE WESTERN PACIFIC

1. The authority citation for part 665 continues to read as follows:

Authority: 16 U.S.C. 1801 et seq.

2. In § 665.800, add a definition of “Purse seine” in alphabetical order to read as follows:

§ 665.800 Definitions.

* * * * *

Purse seine means a floated and weighted encircling net that is closed by means of a drawstring threaded through rings attached to the bottom of the net.

* * * * *

3. In § 665.802, revise paragraphs (v), (w), and (xx) to read as follows:

§ 665.802 Prohibitions.

* * * * *

(v) Use longline gear to fish within a longline fishing prohibited area in violation of § 665.806, except as allowed pursuant to an exemption issued under §§ 665.17 or 665.807.

(w) Use a purse seine to fish within a purse seine fishing prohibited area in violation of § 665.806, except as allowed pursuant to an exemption issued under § 665.17.

* * * * *

(xx) Use a large vessel to fish for western Pacific Pelagic MUS within an American Samoa large vessel prohibited area in violation of § 665.806, except as allowed pursuant to an exemption issued under §§ 665.17 or 665.818.

* * * * *

4. Revise § 665.806 to read as follows:

§ 665.806 Prohibited area management.

(a) Longline fishing prohibited areas. Longline fishing is prohibited in the longline fishing prohibited areas as defined in paragraphs (a)(1) through (a)(4) of this section.

(1) NWHI protected species zone. The NWHI protected species zone is the portion of the EEZ within 50 nm of the center geographical positions of certain islands and reefs in the NWHI, as follows:

Name | N. lat. | W. long.
Nihoa Island | 23°05′ | 161°55′
Necker Island | 23°35′ | 164°40′
French Frigate Shoals | 23°45′ | 166°15′
Gardner Pinnacles | 25°00′ | 168°00′
Maro Reef | 25°25′ | 170°35′
Laysan Island | 25°45′ | 171°45′
Lisianski Island | 26°00′ | 173°55′
Pearl and Hermes Reef | 27°50′ | 175°50′
Midway Island | 28°14′ | 177°22′
Kure Island | 28°25′ | 178°20′
Where the areas are not contiguous, parallel lines drawn tangent to and connecting those semicircles of the 50-nm areas that lie between Nihoa Island and Necker Island, French Frigate Shoals and Gardner Pinnacles, Gardner Pinnacles and Maro Reef, and Lisianski Island and Pearl and Hermes Reef, delimit the remainder of the NWHI longline protected species zone.

(2) Main Hawaiian Islands (MHI). (i) From February 1 through September 30 each year, the MHI longline fishing prohibited area is the portion of the EEZ around Hawaii bounded by straight lines connecting the following coordinates in the order listed:

Point | N. lat. | W. long.
A | 18°05′ | 155°40′
B | 18°20′ | 156°25′
C | 20°00′ | 157°30′
D | 20°40′ | 161°40′
E | 21°40′ | 161°55′
F | 23°00′ | 161°30′
G | 23°05′ | 159°30′
H | 22°55′ | 157°30′
I | 21°30′ | 155°30′
J | 19°50′ | 153°50′
K | 19°00′ | 154°05′
A | 18°05′ | 155°40′

(ii) From October 1 through the following January 31 each year, the MHI longline fishing prohibited area is the portion of the EEZ around Hawaii bounded by straight lines connecting the following coordinates in the order listed:

Point | N. lat. | W. long.
A | 18°05′ | 155°40′
L | 18°25′ | 155°40′
M | 19°00′ | 154°45′
N | 19°15′ | 154°25′
O | 19°40′ | 154°20′
P | 20°20′ | 154°55′
Q | 20°35′ | 155°30′
R | 21°00′ | 155°35′
S | 22°30′ | 157°35′
T | 22°40′ | 159°35′
U | 22°25′ | 160°20′
V | 21°55′ | 160°55′
W | 21°40′ | 161°00′
E | 21°40′ | 161°55′
D | 20°40′ | 161°40′
C | 20°00′ | 157°30′
B | 18°20′ | 156°25′
A | 18°05′ | 155°40′

(3) Guam. The Guam longline fishing prohibited area is the portion of the EEZ around Guam bounded by straight lines connecting the following coordinates in the order listed:

Point | N. lat. | E. long.
A | 14°25′ | 144°00′
B | 14°00′ | 143°38′
C | 13°41′ | 143°33′33″
D | 13°00′ | 143°25′30″
E | 12°20′ | 143°37′
F | 11°40′ | 144°09′
G | 12°00′ | 145°00′
H | 13°00′ | 145°42′
I | 13°27′ | 145°51′

(4) CNMI. The CNMI longline fishing prohibited area is the portion of the EEZ around the CNMI bounded by straight lines connecting the following coordinates in the order listed:

Point | N. lat. | E. long.
A | 14°00′ | 144°34′
B | 15°49′ | 145°29′
C | 16°21′ | 145°06′
D | 17°03′ | 145°22′
E | 19°07′ | 145°09′
F | 20°39′ | 144°19′
G | 21°04′ | 145°06′
H | 19°19′ | 146°04′
I | 16°00′ | 146°32′
J | 13°32′ | 145°32′
A | 14°00′ | 144°34′

(b) American Samoa large vessel prohibited areas. A large vessel of the United States may not be used to fish for western Pacific pelagic MUS in the American Samoa large vessel prohibited areas as defined in paragraphs (b)(1) and (b)(2) of this section, except as allowed pursuant to an exemption issued under § 665.818.

(1) Tutuila Island, Manua Islands, and Rose Atoll (AS-1). The Tutuila Island, Manua Islands, and Rose Atoll large vessel prohibited area is the portion of the EEZ around American Samoa enclosed by straight lines connecting the following coordinates:

Point | S. lat. | W. long.
AS-1-A | 13°30′ | 167°25′
AS-1-B | 15°13′ | 167°25′
and from Point AS-1-A westward along the latitude 13°30′ S. until intersecting the U.S. EEZ boundary with Samoa, and from Point AS-1-B westward along the latitude 15°13′ S. until intersecting the U.S. EEZ boundary with Samoa.

(2) Swains Island (AS-2). The Swains Island large vessel prohibited area is the portion of the EEZ around American Samoa enclosed by straight lines connecting the following coordinates:

Point | S. lat. | W. long.
AS-2-A | 11°48′ | 171°50′
AS-2-B | 11°48′ | 170°20′
and from Point AS-2-A northward along the longitude 171°50′ W. until intersecting the U.S. EEZ boundary with Tokelau, and from Point AS-2-B northward along the longitude 170°20′ W. until intersecting the U.S. EEZ boundary with Tokelau.

(c) Purse seine fishing prohibited areas. Purse seine fishing is prohibited in the EEZ around Guam and the CNMI.

5. Revise the section heading in § 665.807 to read as follows:

§ 665.807 Exemptions for Hawaii longline fishing prohibited areas; procedures.

* * * * *

§ 665.817 [Removed and Reserved]

6. Remove and reserve § 665.817.

[FR Doc. 2011-7633 Filed 3-30-11; 8:45 am]

BILLING CODE 3510-22-P